DEPARTMENT OF STATE

[Public Notice 3554]

Privacy Act of 1974 as Amended; Removal of Systems of Records

Notice is hereby given that the Department of State is removing three systems of records, “Biographic Register Records, STATE-01,” “Board of Foreign Service Records, STATE-03,” and “Personnel Travel Records, STATE-32,” pursuant to the provisions of the Privacy Act of 1974, as amended [5 U.S.C. 552a(r)], and in accordance with the record-keeping practices and the reorganization of the Bureau of Human Resources.

As reported in Public Notice 3474 dated November 3, 2000 (00 Federal Register/Vol. 65, No. 222, page 69359, November 16, 2000), the relevant records reflected in STATE-01, STATE-03 and STATE-32 are now part of “Human Resources Records STATE-31,” and STATE-01, STATE-03 and STATE-32 consequently have been removed.

Dated: January 11, 2001.
Patrick F. Kennedy,
Assistant Secretary for the Bureau of Administration, U.S. Department of State.

[FR Doc. 01-2034 Filed 1-22-01; 8:45 am]

BILLING CODE 4710-24-P